DEPARTMENT OF ENERGY

Federal Energy Regulatory Commission

[Project No. 11566-000--Maine Damariscotta Mills Project]

Ridgewood Maine Hydro Partners, L.P.; Notice Modifying a Restricted Service List for Comments on a Programmatic Agreement for Managing Properties Included in or Eligible for Inclusion in the National Register of Historic Places

February 7, 2002.

On October 18, 2001, the Federal Energy Regulatory Commission (Commission) issued a notice for the Damariscotta Mills Hydroelectric Project (FERC No. 11566-000) proposing to establish a restricted service list for the purpose of developing and executing a Programmatic Agreement for managing properties included in or eligible for inclusion in the National Register of Historic Places. The Damariscotta Mills Hydroelectric Project is located on the Damariscotta River, in Lincoln County, Maine. Ridgewood Maine Hydro Partners, L.P. is the licensee.

Rule 2010 of the Commission's rules of practice and procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established.

¹ 18 CFR 385.2010.

The following additions are made to the restricted service list notice issued on October 18, 2001, for Project No. 11566-000:

Mr. Dale Wright, Chairman, Town of Nobleboro, 192 US Highway 1, Nobleboro, ME 04555.

Mr. Jonathan C. Hull, Esq., P.O. Box 880, Damariscotta, ME 04543.

Ms. Rosa Sinclair, Chair, Town of Jefferson, 58 Washington Road, Jefferson, ME 04348.

Alec Giffen, Land & Water Associates, 9 Union Street, Hallowell, ME 04347.

Magalie R. Salas,
Secretary.

[FR Doc. 02-3468 Filed 2-12-02; 8:45 am]

BILLING CODE 6717-01-P